DEPARTMENT OF DEFENSE

Office of the Secretary

[Transmittal Nos. 09-69, 09-70, and 09-74]

36(b)(1) Arms Sales Notifications

AGENCY: Defense Security Cooperation Agency, DoD.

ACTION: Notice.

SUMMARY: The Department of Defense is publishing the unclassified text of three section 36(b)(1) arms sales notifications to fulfill the requirements of section 155 of Public Law 104-164, dated 21 July 1996.

FOR FURTHER INFORMATION CONTACT: Ms. B. English, DSCA/DBO/CFM, (703) 601-3740.

SUPPLEMENTARY INFORMATION:

Transmittal No. 09-69

The following is a copy of a letter to the Speaker of the House of Representatives, Transmittals 09-69 with attached transmittal, policy justification, and Sensitivity of Technology.

BILLING CODE 5001-06-P

Transmittal No. 09-70

The following is a copy of a letter to the Speaker of the House of Representatives, Transmittals 09-70 with attached transmittal, policy justification, and Sensitivity of Technology.

Transmittal No. 09-74

The following is a copy of a letter to the Speaker of the House of Representatives, Transmittals 09-74 with attached transmittal, and policy justification.

Dated: December 9, 2009.
Mitchell S. Bryman,
Alternate OSD Federal Register Liaison Officer, Department of Defense.

[FR Doc. E9-29650 Filed 12-11-09; 8:45 am]

BILLING CODE 5001-06-C